DEPARTMENT OF DEFENSE

Department of the Army

32 CFR Part 633

Individual Requests for Access or Amendment of CID Reports of Investigation

AGENCY: Department of the Army, DoD.

ACTION: Final rule.

SUMMARY: The Department of the Army is amending its rule on Individual Requests for Access or Amendment of CID Reports of Investigation to correct the mailing address in its regulations. The address for submitting requests for access to, or amendment of, USACIDC investigative reports has changed. This rule also replaces the obsolete “Release of Information Records from Army Files” publication with the “Freedom of Information Act” publication.

DATES: This rule is effective May 17, 2013.

FOR FURTHER INFORMATION CONTACT: Ms. Michelle A. Kardelis, (571) 305-4204, email: michelle.a.kardelis.civ@mail.mil.

SUPPLEMENTARY INFORMATION:

A. Executive Summary

I. Purpose of the Regulatory Action

The publication of this final rule will ensure the correct mailing address for submission of access to or amendment of USACIDC investigative reports. In addition, the rule will replace an obsolete publication (AR 340-17) and replace it with the existing Freedom of Information Act (AR 25-55) publication in reference to accessing CID reports.

II. Summary of the Major Provisions of the Regulatory Action in Question

The major provisions of this rule include: the correct mailing address for submission of access to or amendment of USACIDC investigative and the replacement of an obsolete publication for accessing CID reports.

III. Cost and Benefits

This rule will not have a monetary effect upon the public.

B. Regulatory Flexibility Act

The Department of the Army has determined that the Regulatory Flexibility Act does not apply because the rule change does not have a significant economic impact on a substantial number of small entities within the meaning of the Regulatory Flexibility Act, 5 U.S.C. 601-612.

C. Unfunded Mandates Reform Act

The Department of the Army has determined that the Unfunded Mandates Reform Act does not apply because the rule change does not include a mandate that may result in estimated costs to State, local or tribal governments in the aggregate, or the private sector, of $100 million or more.

D. National Environmental Policy Act

The Department of the Army has determined that the National Environmental Policy Act does not apply because the rule change does not have an adverse impact on the environment.

E. Paperwork Reduction Act

The Department of the Army has determined that the Paperwork Reduction Act does not apply because the rule change does not involve collection of information from the public.

F. Executive Order 12630 (Government Actions and Interference With Constitutionally Protected Property Rights)

The Department of the Army has determined that Executive Order 12630 does not apply because the rule change does not impair private property rights.

G. Executive Order 12866 (Regulatory Planning and Review) and Executive Order 13563 (Improving Regulation and Regulatory Review)

The Department of the Army has determined that according to the criteria defined in Executive Order 12866 and Executive Order 13563 this rule is not a significant regulatory action. As such, the rule is not subject to Office of Management and Budget review under section 6(a)(3) of the Executive Order.

H. Executive Order 13045 (Protection of Children From Environmental Health Risk and Safety Risks)

The Department of the Army has determined that according to the criteria defined in Executive Order 13045 this rule does not apply.

I. Executive Order 13132 (Federalism)

The Department of the Army has determined that according to the criteria defined in Executive Order 13132 that Executive Order does not apply because the rule does not apply because it will not have a substantial effect on the States, on the relationship between the national government and the States, or on the distribution of power and responsibilities among the various levels of government.

Susan Cuglar,
Director, U.S. Army Crime Records Center.

List of Subjects in 32 CFR Part 633

Freedom of information, Investigation, Privacy.

For reasons stated in the preamble 32 CFR part 633 is amended as follows:

PART 633—INDIVIDUAL REQUEST FOR ACCESS OR AMENDMENT OF CID REPORTS OF INVESTIGATION

1. The authority citation for part 633 continues to read as follows:

Authority: Sec. 3012, 70A Stat. 157; 10 U.S.C. 3012.

2. Revise § 633.11 to read as follows:

§ 633.11 Access to CID reports.

All requests for access to CID reports made under the Privacy or Freedom of Information Acts will be processed in accordance with AR 340-21 and AR 25-55, respectively.

3. Revise § 633.13 to read as follows:

§ 633.13 Submission of requests.

Requests for access to, or amendment of, USACIDC investigative reports will be forwarded to the Director, U.S. Army Crime Records Center (CICR-FP), 27130 Telegraph Road, Quantico, VA 22134.

[FR Doc. 2013-11734 Filed 5-16-13; 8:45 am]

BILLING CODE 3710-08-P